DEPARTMENT OF COMMERCE

National Oceanic and Atmospheric Administration

Proposed Information Collection; Comment Request; Modification Northeast Multispecies Amendment 16

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before December 14, 2012.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Allison Murphy, (978) 281-9122 or Allison.murphy@noaa.gov.

SUPPLEMENTARY INFORMATION:

I. Abstract

This request is for revision and extension of a current information collection. Under the Magnuson-Stevens Fishery Conservation and Management Act, the Secretary of Commerce has the responsibility for the conservation and management of marine fishery resources. We, National Oceanic and Atmospheric Administration's (NOAA) National Marine Fisheries Service (NMFS), and the Regional Fishery Management Councils are delegated the majority of this responsibility. The New England Fishery Management Council (Council) develops management plans for fishery resources in New England.

In 2010, we implemented a new suite of regulations for the Northeast (NE) multispecies fishery through Amendment 16 to the Multispecies Fishery Management Plan (Amendment 16). This action updated status determination criteria for all regulated NE multispecies or ocean pout stocks; adopted rebuilding programs for NE multispecies stocks newly classified as being overfished and subject to overfishing; revised management measures, including significant revisions to the sector management measures, necessary to end overfishing, rebuild overfished regulated NE multispecies and ocean pout stocks, and mitigate the adverse economic impacts of increased effort controls. It also implemented new requirements under Amendment 16 for establishing acceptable biological catch (ABC), annual catch limits (ACLs), and accountability measures (AMs) for each stock managed under the FMP, pursuant to the Magnuson-Stevens Fishery Conservation and Management Act (Magnuson-Stevens Act).

Revisions:

Not all measures that were included in Amendment 16 were ultimately approved, including the Gulf of Maine Sink Gillnet Pilot Program, which would have necessitated a Letter of Authorization (LOA) had it been approved. Therefore, we propose to remove this requirement from the information collection. In addition, Framework 47 to the Multispecies FMP removed Restricted Gear Requirements from the regulations. Therefore the requirement to declare into these areas via vessel monitoring system (VMS), or to receive an LOA are also proposed to be removed from this information collection.

In an attempt to consolidate reporting requirements that are mandated by the NE multispecies regulation, we propose moving some requirements out of OMB Control No. 0648-0202, Northeast Region Permit Family of Forms, and into this collection, including: The Days-at-Sea (DAS) Transfer Program, Expedited Submission of Proposed Special Access Programs (SAPs), and North Atlantic Fisheries Organization (NAFO) Reporting Requirements.

II. Method of Collection

Respondents must submit either paper forms via postal service, or electronic forms submitted via the internet or vessels' vessel monitoring system (VMS).

III. Data

OMB Control Number: 0648-0605.

Form Number: None.

Type of Review: Regular submission (revision and extension of a current information collection).

Affected Public: Business or other for-profit organizations.

Estimated Number of Respondents: 1,482.

Estimated Time per Response: Sector operations plan and associated National Environmental Policy Act (NEPA) analysis, 640 hours; monitoring service provider response to application disapproval, 10 hours; Data entry for sector discard monitoring system, 3 minutes; Sector weekly catch report, 4 hours; Sector annual report, 12 hours; Notification of expulsion from a sector, 30 min; Request to transfer Annual Catch Entitlement (ACE), 5 minutes; VMS certification form, 10 minutes; VMS confirmation call, 5 minutes; VMS area and DAS declaration, 5 minutes; VMS trip-level catch reports and Daily VMS catch reports, 15 minutes; Pre-trip hail report to a dockside monitoring (DSM) service provider, 2 minutes; Trip-end hail report to a DSM service provider, 15 minutes; Confirmation of DSM trip-end hail report, 2 minutes; Forward trip start/end hails to NMFS, 2 minutes; Notification to vessel/sector/NMFS of monitor emergency, 5 minutes; DSM/roving service provider data entry, 3 minutes; Dockside/roving or at-sea monitor deployment report, 10 minutes; DSM/roving or at-sea monitoring (ASM) service provider catch report to NMFS upon request, minutes; Dockside/roving or at-sea monitor report of harassment and other issues, 30 minutes; Copy of DSM/roving or ASM service provider contract or information materials upon request, 30 minutes; OLE debriefing of dockside/roving or at-sea monitors, 2 hours; ASM Pre-Trip Notification and Vessel notification of selection for at-sea monitoring coverage, 5 minutes each; NMFS ASM Database and Data Entry, 30 minutes n; Observer program pre-trip notification, 2 minutes; Copy of the dealer weigh-out slip or dealer signature of the dockside monitor report, 2 minutes; DAS Transfer Program, 5 min; Expedited Submission of Proposed SAPs, 20 hr; NAFO Reporting Requirements, 10 minutes.

Estimated Total Annual Burden Hours: 78,719.

Estimated Total Annual Cost to Public: $3,486,168.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 9, 2012.
Gwellnar Banks,
Management Analyst, Office of the Chief Information Officer.

[FR Doc. 2012-25224 Filed 10-12-12; 8:45 am]

BILLING CODE 3510-22-P